DEPARTMENT OF ENERGY

Federal Energy Regulatory Commission

Notice of Amendment of License and Soliciting Comments, Motions To Intervene, and Protests

July 9, 2002.

a. Type of Filing: Application for Amendment of License to find that a certain transmission line is no longer jurisdictional and no longer requires licensing.

b. Project No.: 1971-075.

c. Date Filed: February 26, 2002.

d. Applicant: Idaho Power Company.

e. Name of Project: Hells Canyon.

f. Location: The project is located on the Snake River in Ada, Adam, Boise, Gem and Washington Counties, Idaho.

g. Filed Pursuant to: Federal Energy Regulatory Commission Regulation, 18 CFR 385.207.

h. Applicant Contacts: Robert W. Stahman, Vice President, Secretary and General Counsel, Idaho Power Company, 1221 West Idaho Street, P.O. Box 70, Boise, Idaho 83707. Lee S. Sherline, Leighton & Sherline, 8211 Chivalry Road, Annadale, VA 22003-1337.

i. FERC Contact: Etta Foster, (202) 219-2679, or etta.foster@ferc.gov.

j. Deadline for filing comments, motions to intervene or protests: August 12, 2002.

All documents (original and eight copies) should be filed with Magalie R. Salas, Secretary, Federal Energy Regulatory Commission, 888 First Street, NE., Washington, DC 20426. Comments, protests and interventions may be filed electronically via the Internet in lieu of paper. See 18 CFR 385.2001(a)(1)(iii) and the instructions on the Commission's web site under the “e-Filing” link.

The Commission's rules of Practice and Procedure require all intervenors filing documents with the Commission to serve a copy of that document on each person whose name appears on the official service list for the project. Further, if an intevenor files comments or documents with the Commission relating to the merits of an issue that may affect the responsibilities of a particular resource agency, they must also serve a copy of the document on that resource agency.

k. Description of Project: The applicant requests that the eastern 4.02 miles of its transmission line #923 be deleted from the license and exhibits J and M be revised to reflect this change.

l. Location of the Filing: A copy of the filing is available for inspection and reproduction at the Commision's Public Reference Room, located at 888 First Street, NE., Room 2A, Washington, DC 20426, or by calling (202) 208-1371. Copies of this filing are on file with the Commission and are available for public inspection. This filing may also be viewed on the web at http://www.ferc.gov using the “RIMS” link, select “Docket#” and follow the instructions (call 202-208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTESTS”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-17726 Filed 7-12-02; 8:45 am]

BILLING CODE 6717-01-P